DEPARTMENT OF COMMERCE

National Oceanic and Atmospheric Administration

RIN 0648-XF660

North Pacific Fishery Management Council; Public Meeting

AGENCY: National Marine Fisheries Service (NMFS), National Oceanic and Atmospheric Administration (NOAA), Commerce.

ACTION: Notice of public meeting.

SUMMARY: The North Pacific Fishery Management Council (Council) Crab Plan Team will meet September 19-21, 2017.

DATES: The meeting will be held on Tuesday, September 19 through Thursday, September 21, from 9 a.m. to 5 p.m. Pacific Time, each day.

ADDRESSES: The meeting will be held at the Alaska Fishery Science Center, (AFSC) Traynor Room, Sand Point Way, Seattle, WA.

Council address: North Pacific Fishery Management Council, 605 W. 4th Ave., Suite 306, Anchorage, AK 99501-2252; telephone: (907) 271-2809.

FOR FURTHER INFORMATION CONTACT: Diana Stram, Council staff; telephone: (907) 271-2809.

SUPPLEMENTARY INFORMATION:

Agenda

Tuesday, September 19 Through Thursday, September 21

The agenda will include: (a) EBS Trawl Survey, (b) Bycatch Overview of groundfish and crab c) Ecosystem and economic data update, (c) Final assessments on Snow crab, Bristol Bay red king crab, Pribilof Islands red and blue king crab, Saint Matthew blue king crab, Tanner crab, (d) overfishing status determinations for Western Aleutian Island red king crab and Pribilof Island golden king crab and, (e) Model discussions for Norton Sound red king crab and Aleutian Islands golden king crab.

Meeting materials will be made available on the Council Web site (www.npfmc.org) prior to the meeting.

Special Accommodations

These meetings are physically accessible to people with disabilities. Requests for sign language interpretation or other auxiliary aids should be directed to Shannon Gleason at (907) 271-2809 at least 7 working days prior to the meeting date.

Dated: August 29, 2017.
Tracey L. Thompson,
Acting Deputy Director, Office of Sustainable Fisheries, National Marine Fisheries Service.

[FR Doc. 2017-18601 Filed 8-31-17; 8:45 am]

BILLING CODE 3510-22-P